DEPARTMENT OF THE INTERIOR

Fish and Wildlife Service

Endangered Species Recovery Permit Application

AGENCY: Fish and Wildlife Service, Interior.

ACTION: Notice of receipt of permit applications.

SUMMARY: We invite the public to comment on the following applications to conduct certain activities with endangered species.

DATES: Comments on this permit application must be received on or before May 19, 2006.

ADDRESSES: Written data or comments should be submitted to the U.S. Fish and Wildlife Service, Chief, Endangered Species, Ecological Services, 911 NE. 11th Avenue, Portland, Oregon 97232-4181 (telephone: 503-231-2063; fax: 503-231-6243). Please refer to the permit number for the application when submitting comments. All comments received, including names and addresses, will become part of the official administrative record and may be made available to the public.

FOR FURTHER INFORMATION CONTACT: Documents and other information submitted with the applications are available for review, subject to the requirements of the Privacy Act and Freedom of Information Act, by any party who submits a written request for a copy of such documents to the address above. Please refer to the permit number for the application when requesting copies of documents.

SUPPLEMENTARY INFORMATION: The following applicants have applied for survival enhancement permits to conduct certain activities with an endangered species pursuant to section 10(a)(1)(A) of the Endangered Species Act (16 U.S.C. 1531 et seq.). The U.S. Fish and Wildlife Service (“we”) solicits review and comment from the public, and from local, State, and Federal agencies on the following permit requests.

Permit No. TE-017352

Applicant: The Commonwealth of the Northern Mariana Islands, Division of Fish and Wildlife, Saipan, Mariana Islands.

The permittee requests a permit amendment to take (capture, release, collect biological samples, and nest monitor) the Rota bridled white-eye (Zosterops rotensis) in conjunction with scientific research on the Island of Rota, in the Commonwealth of the Northern Mariana Islands for the purpose of enhancing its survival.

Permit No. TE-122117

Applicant: Dawn M. Reding, Honolulu, Hawaii.

The applicant requests a permit to take (capture, measure, band, collect blood, and release) the Hawaii akepa (Loxops coccineus coccineus), the Hawaii creeper (Oreomystis mana), and the akiapolaau (Hemignathus munroi); and take (capture, band, and release) the Hawaiian hawk (Buteo solitarius) in conjunction with genetic and demographic research on the island of Hawaii in the state of Hawaii for the purpose of enhancing their survival.

Permit No. TE-122076

Applicant: Gustav R. Bodner, Honolulu, Hawaii.

The applicant requests a permit to take (capture, measure, examine, band, collect biological samples, and release) the Hawaii akepa (Loxops coccineus), the Hawaii creeper (Oreomystis mana), the akiapolaau (Hemignathus munroi), Hawaiian hawk (Buteo solitarius), and the ou (Psittirostra psittacea) in conjunction with disease and parasite research at Hakalau Forest National Wildlife Refuge, Hawaii, for the purpose of enhancing their survival.

Permit No. TE-122762

Applicant: Liba Pejchar, Palo Alto, California.

The applicant requests a permit to take (capture and release) the akiapolaau (Hemignathus munroi), akepa (Loxops coccineus), and the Hawaii creeper (Oreomystis mana) in conjunction with ecological research on the island of Hawaii in the State of Hawaii for the purpose of enhancing their survival.

We solicit public review and comment on these recovery permit applications.

Dated: March 30, 2006.
David J. Wesley,
Acting Regional Director, Region 1, U.S. Fish and Wildlife Service.

[FR Doc. E6-5848 Filed 4-18-06; 8:45 am]

BILLING CODE 4310-55-P